SMALL BUSINESS ADMINISTRATION

[Disaster Declaration #20718 and #20719; TENNESSEE Disaster Number TN-20017]

Presidential Declaration Amendment of a Major Disaster for the State of Tennessee

AGENCY: Small Business Administration.

ACTION: Amendment 1.

SUMMARY: This is an amendment of the Presidential declaration of a major disaster for the State of Tennessee (FEMA-4832-DR), dated October 10, 2024.

Incident: Tropical Storm Helene.

DATES: Issued on October 24, 2024.

Incident Period: September 26, 2024 through September 30, 2024.

Physical Loan Application Deadline Date: December 2, 2024.

Economic Injury (EIDL) Loan Application Deadline Date: July 2, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of Tennessee, dated October 2, 2024, is hereby amended to update the incident period for this disaster as beginning September 26, 2024 and continuing through September 30, 2024.

All other information in the original declaration remains unchanged.

(Catalog of Federal Domestic Assistance Number 59008)

Rafaela Monchek,
Deputy Associate Administrator, Office of Disaster Recovery & Resilience.

[FR Doc. 2024-25347 Filed 10-30-24; 8:45 am]

BILLING CODE 8026-09-P